DEPARTMENT OF AGRICULTURE

Forest Service

Boundary Establishment for the Allegheny National Wild and Scenic River, Allegheny National Forest, Warren, Forest, and Venango Counties, PA

AGENCY: Forest Service, USDA.

ACTION: Notice of availability.

SUMMARY: In accordance with Section 3(b) of the Wild and Scenic Rivers Act, the USDA Forest Service, Washington Office, is transmitting the final boundary of the Allegheny National Wild and Scenic River to Congress.

FOR FURTHER INFORMATION CONTACT: Information may be obtained by contacting Operations Staff Officer Jim Seyler, Allegheny National Forest, 4 Farm Colony Drive, Warren, PA or phone (814) 728-6239.

SUPPLEMENTARY INFORMATION: The Allegheny Wild and Scenic River boundary is available for review at the following offices: USDA Forest Service, Wilderness & Wild and Scenic Rivers, 1400 Independence Avenue SW., Washington, DC 20024; Allegheny National Forest, 4 Farm Colony Drive, Warren, PA 16365. A detailed legal description is available upon request.

The Allegheny Wild and Scenic Rivers Act (Pub. L. 102-271) of April 20, 1992, designated the Allegheny River, Pennsylvania, as a Wild and Scenic River, to be administered by the Secretary of Agriculture. As specified by law, the boundary will not be effective until ninety days after Congress receives the transmittal.

Dated: April 3, 2012.
Erin Connelly,
Forest Supervisor.

[FR Doc. 2012-8451 Filed 4-9-12; 8:45 am]

BILLING CODE P